NUCLEAR REGULATORY COMMISSION

[Docket Nos. 52-040-COL and 52-041-COL; ASLBP No. 10-903-02-COL-BD01]

Atomic Safety and Licensing Board; Notice of Hearing

March 28, 2017.

Before Administrative Judges: E. Roy Hawkens, Chairman, Dr. Michael F. Kennedy, Dr. William C. Burnett.

In the Matter of FLORIDA POWER & LIGHT COMPANY (Turkey Point Units 6 and 7)

Pursuant to 10 CFR 2.312, this Atomic Safety and Licensing Board gives notice that it will convene an evidentiary hearing with regard to a challenge by Mark Oncavage, Dan Kipnis, Southern Alliance for Clean Energy, and National Parks Conservation Association (Joint Intervenors) to an application by Florida Power & Light Company (FPL) to construct and operate two new nuclear power reactors, Units 6 and 7, at the FPL Turkey Point facility near Homestead, Florida.¹

¹ See LBP-16-03, 83 NRC 169, 186 (2016); LBP-11-06, 73 NRC 149, 251 (2011).

A. Date, Time, and Location of Evidentiary Hearing

The Board will convene the evidentiary hearing on Tuesday, May 2, 2017 at 9:30 a.m. EDT, in the Council Chambers of the Homestead City Hall. The City Hall is located at 100 Civic Court, Homestead, Florida 33033. If the evidentiary hearing lasts longer than one day, we will adjourn on Tuesday afternoon and will reconvene and continue at 9:30 a.m. EDT on Wednesday, May 3, 2017. We anticipate that the evidentiary hearing will not take more than two days.

The evidentiary hearing will be held under the authority of the Atomic Energy Act, 42 U.S.C. 2231, 2239, and 2241. It will be conducted pursuant to the NRC hearing procedures set forth in 10 CFR part 2, subpart L, 10 CFR 2.1200-2.1213.

Members of the public and media are welcome to attend and observe the evidentiary hearing.² Actual participation in the hearing will be limited to the parties, interested local governmental bodies, and their lawyers and witnesses.³ Please be aware that security measures may be employed at the entrance to the facility, including searches of hand-carried items such as briefcases or backpacks. No signs will be permitted in the Council Chambers.

² The Council Chambers of the Homestead City Hall can accommodate approximately 100 attendees in the audience.

³ The parties consist of (1) Joint Intervenors; (2) FPL; and (3) the NRC Staff. The interested local governmental bodies in this proceeding are (1) the Village of Pinecrest, Florida; and (2) the City of Miami, Florida. See LBP-15-19, 81 NRC 815, 828 (2015); LBP-11-06, 73 NRC at 251.

B. Matters To Be Considered

Joint Intervenors advance the following challenge (i.e., Contention 2.1) that will be litigated during the May 2, 2017 evidentiary hearing:

The [Final Environmental Impact Statement (FEIS)] is deficient in concluding that the environmental impacts from FPL's proposed deep injection wells will be “small.” The chemical concentrations of ethylbenzene, heptachlor, tetrachloroethylene, and toluene in the wastewater injections, see FEIS Table 3-5, may adversely impact the groundwater should they migrate from the Boulder Zone to the Upper Floridan Aquifer.⁴

⁴ See LBP-16-03, 83 NRC at 186. In LBP-16-03, we formulated Contention 2.1 as a challenge to the Draft EIS. When the NRC Staff issued the FEIS in October 2016, Contention 2.1 automatically converted to a challenge to the FEIS.

C. Limited Appearance Statements

As provided in 10 CFR 2.315(a), any person (other than a party or the representative of a party to this proceeding) may submit a written statement, known as a written limited appearance statement, setting forth a position on matters of concern related to this proceeding. Although these statements are not considered testimony or evidence in this proceeding, they nonetheless may assist this Licensing Board or the parties in considering the matters at issue. Anyone who submits a written limited appearance statement should be aware that the jurisdiction of this Licensing Board and the scope of this proceeding are limited solely to the specific matters described in Contention 2.1.

Written limited appearance statements may be submitted at any time, and should be sent by mail, fax, or email to the Office of the Secretary and also to the Chairman of this Licensing Board:

Office of the Secretary

Mail: Office of the Secretary, Rulemakings and Adjudications Staff, U.S. Nuclear Regulatory Commission, Washington, DC 20555-0001.

Fax: (301) 415-1101 (verification (301) 415-1966).

Email: hearingdocket@nrc.gov.

Chairman of the Licensing Board

Mail: Chief Administrative Judge E. Roy Hawkens, c/o Jennifer Scro & Kimberly Hsu, Board Law Clerks, Atomic Safety and Licensing Board Panel, Mail Stop T-3F23, U.S. Nuclear Regulatory Commission, Washington, DC 20555-0001.

Fax: (301) 415-5599 (verification (301) 415-4128).

Email: Jennifer.Scro@nrc.gov & Kimberly.Hsu@nrc.gov.

D. Availability of Documentary Information Regarding the Proceeding

Documents relating to this proceeding (including any updated or revised scheduling information regarding the evidentiary hearing) are available for public inspection electronically on the NRC's Electronic Hearing Docket (EHD). EHD is accessible from the NRC Web site at https://adams.nrc.gov/ehd. For additional information regarding the EHD please see http://www.nrc.gov/about-nrc/regulatory/adjudicatory.html#ehd. Persons who do not have access to the internet or who encounter problems in accessing the documents located on the NRC's Web site may contact the NRC Public Document Room reference staff by email to pdr@nrc.gov or by telephone at (800) 397-4209 or (301) 415-4737. Reference staff are available Monday through Friday between 8:00 a.m. and 4:00 p.m. ET, except federal holidays. For additional information regarding the NRC Public Document Room please see http://www.nrc.gov/reading-rm/pdr.html.

It is so ordered.
For The Atomic Safety and Licensing Board. Rockville, Maryland.
Dated: March 28, 2017.
E. Roy Hawkens,
Chairman, Administrative Judge.

[FR Doc. 2017-06502 Filed 3-31-17; 8:45 am]

BILLING CODE 7590-01-P